DEPARTMENT OF ENERGY

Federal Energy Regulatory Commission

[Docket Nos. RP05-422-000, RP06-431-000, RP06-392-000, RP06-392-001, RP06-368-000, RP06-226-000]

El Paso Natural Gas Company; Notice of Technical Conference

August 3, 2006.

On June 30, 2005, El Paso Natural Gas Company (El Paso) filed revised tariff sheets pursuant to section 4 of the Natural Gas Act and part 154 of the Commission's regulations. In its filing, El Paso proposed a number of new services, a rate increase for existing services, and changes in certain terms and conditions of service. On July 29, 2005, the Commission issued an order accepting and suspending the tariff sheets, subject to refund and conditions, establishing hearing procedures, and establishing a technical conference (112 FERC ¶ 61,150 (2005)). On March 23, 2006, the Commission issued an order on technical conference (114 FERC ¶ 61,305 (2006)). The March 23 order stated that, if the parties believed that an additional technical conference would assist the shippers, the Commission would schedule an additional conference. A number of shippers have requested a technical conference in the above-captioned proceedings.

Take notice that a technical conference to discuss issues related to Maximum Delivery Obligation and Maximum Hourly Obligation allocations, implementation of new services and penalties will be held on Thursday, August 17, 2006 at 10 am (EST), in a room to be designated at the offices of the Federal Energy Regulatory Commission, 888 First Street, NE., Washington, DC 20426.

FERC conferences are accessible under section 508 of the Rehabilitation Act of 1973. For accessibility accommodations please send an e-mail to accessibility@ferc.gov or call toll free 1-866-208-3372 (voice) or 202-502-8659 (TTY), or send a fax to 202-208-2106 with the required accommodations.

All parties and staff are permitted to attend. For further information please contact Ingrid Olson at (202) 502-8406 or e-mail ingrid.olson@ferc.gov

Magalie R. Salas,
Secretary.

[FR Doc. E6-13070 Filed 8-9-06; 8:45 am]

BILLING CODE 6717-01-P